DEPARTMENT OF COMMERCE

National Institute of Standards and Technology

Information Collection Activities; Submission to the Office of Management and Budget (OMB) for Review and Approval; Comment Request; Manufacturing Extension Partnership, Management Information Reporting

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 9, 2024 during a 60-day comment period. This notice allows for an additional 30 days for public comments.

Agency: National Institute of Standards and Technology (NIST), Commerce.

Title: Manufacturing Extension Partnership Management Information Reporting.

OMB Control Number 0693-0032.

Form Number(s): None.

Type of Request: Regular, extension of a current information collection.

Number of Respondents: 51.

Average Hours per Response: 22 Hours for Quarterly Review, 6 Hours for Semi-Annual Review, 30 hours for the Annual Review; 80 hours for Panel Review.

Burden Hours: 6,630 hours for quarterly, semi-annual and annual review; and 1,360 hours for Panel Review.

Needs and Uses: NIST MEP offers technical and business solutions to small- and medium-sized manufacturers to improve their productivity, improve profitability, and enhance their economic competitiveness. This is a major program which links all 50 states and Puerto Rico and the manufacturers through more than 425 affiliated MEP Centers and Field Offices. NIST MEP has many legislative and contractual requirements for collecting data and information from the MEP Centers. This information is used for the following purposes: (1) Program Accountability, (2) Reports to Stakeholders, (3) Continuous Improvement; and (4) Identification of Distinctive Practices.

Affected Public: Private sector.

Frequency: Quarterly, Semi-Annually, and Annually.

Respondent's Obligation: Required to obtain benefits.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0693-0032.

Sheleen Dumas,
Departmental PRA Clearance Officer, Office of the Under Secretary for Economic Affairs, Commerce Department.

[FR Doc. 2024-30225 Filed 12-18-24; 8:45 am]

BILLING CODE 3510-13-P